DEPARTMENT OF COMMERCE

National Oceanic and Atmospheric Administration

[I.D. 040601H]

Western Pacific Fishery Management Council; Public Meeting

AGENCY: National Marine Fisheries Service (NMFS), National Oceanic and Atmospheric Administration (NOAA), Commerce.

ACTION: Notice of public meeting.

SUMMARY: The Western Pacific Fishery Management Council’s (Council) Recreational Fisheries Data Task Force (RFDTF) will hold a meeting.

DATES: The meeting will be held May 11, 2001, from 8:30 a.m. to 5 p.m.

ADDRESSES: The meeting will be held at the Council office, 1164 Bishop St., Suite 1400, Honolulu, HI 96813.

FOR FURTHER INFORMATION CONTACT: Kitty M. Simonds, Executive Director; telephone: 808-522-8220.

SUPPLEMENTARY INFORMATION: This will be the seventh meeting of the RFDTF which will discuss the following topics: progress on the NMFS Marine Recreational Fisheries Statistical Survey and its implementation in Hawaii, University of Hawaii’s Pelagic Fisheries Research Program meta-data project update, analysis of the 1996 U.S. Fish & Wildlife Service fishing and hunting survey, protected species and related legislation and recreational fisherman, effect of longline fishery closure on small boat and recreational fisheries, identifying recreational versus commercial catch in fishing club and tournament record data, revenue generation of the recreational fishing industry in Hawaii and other business as required.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: April 9, 2001.
Bruce C. Morehead,
Acting Director, Office of Sustainable Fisheries, National Marine Fisheries Service.

[FR Doc. 01-9263 Filed 4-13-01; 8:45 am]

BILLING CODE 3510-22-S